DEPARTMENT OF EDUCATION

[Docket No. ED-2014-ICCD-0126]

Agency Information Collection Activities; Submission to the Office of Management and Budget for Review and Approval; Comment Request; 2015-2016 Federal Student Aid Application

AGENCY: Federal Student Aid (FSA), Department of Education (ED).

ACTION: Notice.

SUMMARY: In accordance with the Paperwork Reduction Act of 1995 (44 U.S.C. chapter 3501 et seq.), ED is proposing a revision of an existing information collection.

DATES: Interested persons are invited to submit comments on or before December 19, 2014.

ADDRESSES: Comments submitted in response to this notice should be submitted electronically through the Federal eRulemaking Portal at http://www.regulations.gov by selecting Docket ID ED-2014-ICCD-0126 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when regulations.gov is not available. Written requests for information or comments submitted by postal mail or delivery should be addressed to the Director of the Information Collection Clearance Division, U.S. Department of Education, 400 Maryland Avenue SW., LBJ, Mailstop L-OM-2-2E319, Room 2E105, Washington, DC 20202-4537.

FOR FURTHER INFORMATION CONTACT: For questions related to collection activities or burden, please contact Douglas Pineda Robles, 202-377-4578.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2015-2016 Federal Student Aid Application.

OMB Control Number: 1845-0001.

Type of Review: Revision of an existing collection of information.

Respondents/Affected Public: Individuals.

Total Estimated Number of Annual Responses: 44,992,857.

Total Estimated Number of Annual Burden Hours: 24,083,155.

Abstract:

Section 483 of the Higher Education Act of 1965, as amended (HEA), mandates that the Secretary of Education “. . . shall produce, distribute, and process free of charge common financial reporting forms as described in this subsection to be used for application and reapplication to determine the need and eligibility of a student for financial assistance . . .”.

The determination of need and eligibility are for the following Title IV, HEA, federal student financial assistance programs: The Federal Pell Grant Program; the Campus-Based programs (Federal Supplemental Educational Opportunity Grant (FSEOG), Federal Work-Study (FWS), and the Federal Perkins Loan Program); the William D. Ford Federal Direct Loan Program; the Teacher Education Assistance for College and Higher Education (TEACH) Grant; and the Iraq and Afghanistan Service Grant.

Federal Student Aid, an office of the U.S. Department of Education (hereafter “the Department”), subsequently developed an application process to collect and process the data necessary to determine a student's eligibility to receive Title IV, HEA program assistance. The application process involves an applicant's submission of the Free Application for Federal Student Aid (FAFSA). After submission and processing of the FAFSA, an applicant receives a Student Aid Report (SAR), which is a summary of the processed data they submitted on the FAFSA. The applicant reviews the SAR, and, if necessary, will make corrections or updates to their submitted FAFSA data. Institutions of higher education listed by the applicant on the FAFSA also receive a summary of processed data submitted on the FAFSA which is called the Institutional Student Information Record (ISIR).

The Department seeks OMB approval of all application components as a single “collection of information”. The aggregate burden will be accounted for under OMB Control Number 1845-0001. The specific application components, descriptions and submission methods for each are listed in the following Table.

Table Provided Below

Component | Description | Submission method
Initial Submission of FAFSA
FAFSA on the Web (FOTW) | Online FAFSA that offers applicants a customized experience | Submitted by the applicant via www.fafsa.gov.
FOTW—Renewal | Online FAFSA for applicants who have previously completed the FAFSA
FOTW—EZ | Online FAFSA for applicants who qualify for the Simplified Needs Test (SNT) or Automatic Zero (Auto Zero) needs analysis formulas
FOTW—EZ Renewal | Online FAFSA for applicants who have previously completed the FAFSA and who qualify for the SNT or Auto Zero needs analysis formulas
FAFSA on the Phone (FOTP) | The Federal Student Aid Information Center (FSAIC) representatives assist applicants by filing the FAFSA on their behalf through FOTW | Submitted through www.fafsa.gov for applicants who call 1-800-4-FED-AID.
FOTP—EZ | FSAIC representatives assist applicants who qualify for the SNT or Auto Zero needs analysis formulas by filing the FAFSA on their behalf through FOTW
FAA Access | Online tool that a financial aid administrator (FAA) utilizes to submit a FAFSA | Submitted through www.faaacess.ed.gov by a FAA on behalf of an applicant.
FAA Access—Renewal | Online tool that a FAA can utilize to submit a Renewal FAFSA
FAA Access—EZ | Online tool that a FAA can utilize to submit a FAFSA for applicants who qualify for the SNT or Auto Zero needs analysis formulas
FAA Access—EZ Renewal | Online tool that a FAA can utilize to submit a FAFSA for applicants who have previously completed the FAFSA and who qualify for the SNT or Auto Zero needs analysis formulas
Electronic Other | This is a submission done by a FAA, on behalf of the applicant, using the Electronic Data Exchange (EDE) | The FAA may be using their mainframe computer or software to facilitate the EDE process.
PDF FAFSA or Paper FAFSA | The paper version of the FAFSA printed by the Department for applicants who are unable to access the Internet or the online PDF FAFSA for applicants who can access the Internet but are unable to complete the form using FOTW | Mailed by the applicant.
Correcting Submitted FAFSA Information and Reviewing FAFSA Information
FOTW—Corrections | Any applicant who has a Federal Student Aid PIN (FSA PIN)—regardless of how they originally applied—may make corrections using FOTW Corrections | Submitted by the applicant via www.fafsa.gov.
Electronic Other—Corrections | With the applicant's permission, corrections can be made by a FAA using the EDE | The FAA may be using their mainframe computer or software to facilitate the EDE process.
Paper SAR—This is a SAR and an option for corrections | The full paper summary that is mailed to paper applicants who did not provide an e-mail address and to applicants whose records were rejected due to critical errors during processing. Applicants can write corrections directly on the paper SAR and mail for processing | Mailed by the applicant.
FAA Access—Corrections | An institution can use FAA Access to correct the FAFSA | Submitted through www.faaacess.ed.gov by a FAA on behalf of an applicant.
Internal Department Corrections | The Department will submit an applicant's record for system-generated corrections | There is no burden to the applicants under this correction type as these are system-based corrections.
FSAIC Corrections | Any applicant, with their Data Release Number (DRN), can change the postsecondary institutions listed on their FAFSA or change their address by calling FSAIC | These changes are made directly in the CPS system by a FSAIC representative.
SAR Electronic (eSAR) | The eSAR is an online version of the SAR that is available on FOTW to all applicants with a PIN. Notifications for the eSAR are sent to students who applied electronically or by paper and provided an e-mail address. These notifications are sent by e-mail and include a secure hyperlink that takes the user to the FOTW site | Cannot be submitted for processing.

This information collection also documents an estimate of the annual public burden as it relates to the application process for federal student aid. The Applicant Burden Model (ABM), measures applicant burden through an assessment of the activities each applicant conducts in conjunction with other applicant characteristics and in terms of burden, the average applicant's experience. Key determinants of the ABM include:

The total number of applicants that will potentially apply for federal student aid;

How the applicant chooses to complete and submit the FAFSA (e.g., by paper or electronically via FOTW);

How the applicant chooses to submit any corrections and/or updates (e.g., the paper SAR or electronically via FOTW Corrections);

The type of SAR document the applicant receives (eSAR, SAR acknowledgment, or paper SAR);

The formula applied to determine the applicant's EFC (full need analysis formula, Simplified Needs Test or Automatic Zero); and

The average amount of time involved in preparing to complete the application.

The ABM is largely driven by the number of potential applicants for the application cycle. The total application projection for 2015-2016 is based upon two factors—estimates of the total enrollment in all degree-granting institutions and the percentage change in FAFSA submissions for the last completed or almost completed application cycle. The ABM is also based on the application options available to students and parents. The Department accounts for each application component based on Web trending tools, survey information, and other Department data sources.

For 2015-2016, the Department is reporting a net burden decrease of 2,081,212 hours.

In response to the 60-day comment period, the Department has made some changes to the application explained in the 2015-2016 Federal Student Aid Application Comments Tracking Summary. We project that these changes will not substantively impact burden.

Dated: November 14, 2014.
Stephanie Valentine,
Acting Director, Information Collection Clearance Division, Privacy, Information and Records Management Services, Office of Management.

[FR Doc. 2014-27393 Filed 11-18-14; 8:45 am]

BILLING CODE 4000-01-P